DEPARTMENT OF COMMERCE

International Trade Administration

[A-507-502]

Administrative Review of Certain In-Shell Raw Pistachios From Iran: Extension of Time Limit for Final Results of New Shipper Review

AGENCY: Import Administration, International Trade Administration, Department of Commerce.

EFFECTIVE DATE: October 24, 2002.

FOR FURTHER INFORMATION CONTACT: Phyllis Hall at (202) 482-1398, or Donna Kinsella at (202) 482-0194, Import Administration, International Trade Administration, U.S. Department of Commerce, 14th Street and Constitution Ave., NW., Washington, DC 20230.

SUPPLEMENTARY INFORMATION:

Statutory Time Limits

Section 751(a)(2)(B)(iv) of the Tariff Act of 1930, as amended (the Act), requires the Department of Commerce (“the Department”) to issue a final results of review within 90 days after the date on which the preliminary results were issued. However, if the Secretary concludes that a new shipper review is extraordinary complicated, the Secretary may extend the 90-day period to 150 days from the date of issuance of the preliminary results of review.

Background

On July 29, 2002, the Department issued the preliminary results of antidumping duty new shipper review on certain in-shell raw pistachios from Iran, covering the period July 1, 2000 through June 30, 2001. The final results are currently due no later than October 27, 2002.

Extension of Time Limit for Preliminary Results of Review

The instant new shipper review is extraordinarily complicated (e.g., exchange rates, and cost of production issues) and a greater amount of time is necessary in order to complete this review. Therefore, pursuant to section 751(a)(2)(B)(iv) of the Act, the Department is extending the time limit for completion of the final results to 150 days from the issuance of the preliminary results, until December 26, 2002.

This extension of the time limit is in accordance with section 751(a)(2)(B)(iv) of the Act and 19 CFR 214(i)(2).

Dated: October 17, 2002.
Joseph A. Spetrini,
Deputy Assistant Secretary for Import Administration, Group III.

[FR Doc. 02-27144 Filed 10-23-02; 8:45 am]

BILLING CODE 3510-DS-P